DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: HSRP public meeting will be held November 19-20, 2008. Open public time is from 8 a.m. to 5 p.m. on November 19th and 8 a.m. to 3 p.m. on November 20th.

Location: Westin Harbour Island, Tampa, Florida. 725 S. Harbour Island Boulevard, Tampa, FL 33602; Tel: (813) 229-5000. The times and agenda topics are subject to change. Refer to the HSRP Web site listed below for the most current meeting agenda.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be part of the final agenda that will be published before the meeting date on the HSRP Web site listed above. Each individual or group making a verbal presentation will be limited to a total time of five (5) minutes. Written comments (at least 30 copies) should be submitted to the DFO by November 5, 2008. Written comments received by the DFO after November 5, 2008, will be distributed to the HSRP, but may not be reviewed before the meeting date. Approximately 25 seats will be available for the public, on a first-come, first-served basis.

Matters to be Considered: (1) Panel discussion with various stakeholders in the region on the use of and interest in NOAA Navigation Services; (2) Presentation on the Integration of NOAA's PORTS® Data product information with the U.S. Coast Guard Automated Identification System (AIS); (3) Updates on Strategic Plans for the Office of Coast Survey, National Geodetic Survey, and Center for Operational Oceanographic Products and Services; (4) Panel discussion with various stakeholders on Climate and the Coasts and Arctic issues; (5) HSRP facilitated strategic planning session; and (6) public statements.

Dated: October 27, 2008.
Christopher C. Cartwright,
Associate Assistant Administrator for Management and CFO/CAO, Ocean Service and Coastal Zone Management.

[FR Doc. E8-25963 Filed 10-30-08; 8:45 am]

BILLING CODE 3510-JE-P